DEPARTMENT OF COMMERCE

National Institute of Standards and Technology

Survey of Advanced Technology Program Joint Venture Participants

ACTION: Proposed collect; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 4, 2001.

ADDRESSES: Direct all written comments to Madeleine Clayton, Departmental Paperwork Clearance Officer, Department of Commerce, Room 6086, 1401 Constitution Avenue, NW, Washington DC 20230 (or via the Internet at MClayton@doc.gov).

FOR FURTHER INFORMATION CONTACT: Requests for additional information or copies of the information collection instrument(s) and instructions should be directed to Barbara Lambis, National Institute of Standards and Technology, 100 Bureau Drive, Stop 4700, Administration Building, Room A333, Gaithersburg, MD, 20899-4700. (Tel: 301-975-4447; E-mail: barbara.lambis@nist.gov).

SUPPLEMENTARY INFORMATION:

I. Abstract

The information collection is for program evaluation of the Advanced Technology Program (ATP). Encouraging R&D collaboration to address technology challenges that have far-reaching industry-wide benefits is a key mission of the ATP. In ATP Joint Ventures, large companies, small companies, universities, and other organizations join together to carry out R&D projects that require the complementary expertise and capabilities of a wide range of firms and organizations. This information collection from ATP Joint Venture participants will address important issues relating to the characteristics and success of ATP Joint Ventures.

II. Method of Collection

Telephone interviews.

III. Data

OMB Number: None.

Form Number: None.

Type of Review: Regular submission.

Affected Public: Businesses, non-profit organizations, and educational institutions.

Estimated Number of Respondents: 400.

Estimated Time Per Response: 30 minutes per response.

Estimated Total Annual Burden Hours: 200.

Estimated Total Annual Cost: 0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: July 2, 2001.
Madeleine Clayton,
Departmental Paperwork Clearance Officer, Office of the Chief Information Officer.

[FR Doc. 01-16979 Filed 7-5-01; 8:45 am]

BILLING CODE 3510-13-P